DEPARTMENT OF ENERGY

Federal Energy Regulatory Commission

Combined Notice of Filings

August 6, 2008.

Take notice that the Commission has received the following Natural Gas Pipeline Rate and Refund Report filings:

Docket Numbers: RP03-36-033.

Applicants: Dauphin Island Gathering Partners.

Description: Dauphin Island Gathering Partners submits the Thirty-Eighth Revised Sheet 9 to FERC Gas Tariff, First Revised Volume 1, to be effective 8/4/08.

Filed Date: 08/04/2008.

Accession Number: 20080805-0115.

Comment Date: 5 p.m. Eastern Time on Monday, August 18, 2008.

Docket Numbers: RP06-200-046.

Applicants: Rockies Express Pipeline LLC.

Description: Rockies Express Pipeline, LLC submits Second Revised Sheet 8B et al. to FERC Gas Tariff, Second Revised Volume 1.

Filed Date: 08/01/2008.

Accession Number: 20080804-0219.

Comment Date: 5 p.m. Eastern Time on Wednesday, August 13, 2008.

Docket Numbers: RP06-569-006. RP07-376-003. RP01-245-028.

Applicants: Transcontinental Gas Pipe Line Corp.

Description: Transcontinental Gas Pipe Line Corp forwards a DVD that contains their Report of Refund.

Filed Date: 08/01/2008.

Accession Number: 20080804-0220.

Comment Date: 5 p.m. Eastern Time on Wednesday, August 13, 2008.

Docket Numbers: RP08-481-000.

Applicants: Texas Gas Transmission. LLC.

Description: Texas Gas Transmission, LLC submits Fourth revised Sheet 240 to FERC Gas Tariff, Second Revised Volume 1.

Filed Date: 08/01/2008.

Accession Number: 20080804-0227.

Comment Date: 5 p.m. Eastern Time on Wednesday, August 13, 2008.

Docket Numbers: RP08-482-000.

Applicants: Natural Gas Pipeline Company of America.

Description: Natural Gas Pipeline Company of America, LLC submits First Revised Sheet 32 to FERC Gas Tariff, Seventh Revised Volume 1.

Filed Date: 08/01/2008.

Accession Number: 20080804-0226.

Comment Date: 5 p.m. Eastern Time on Wednesday, August 13, 2008.

Docket Numbers: RP08-483-000.

Applicants: Trailblazer Pipeline Company LLC.

Description: Trailblazer Pipeline Co, LLC submits First Revised Sheet 5 et al. to FERC Gas Tariff, Fourth Revised Volume 1.

Filed Date: 08/01/2008.

Accession Number: 20080804-0225.

Comment Date: 5 p.m. Eastern Time on Wednesday, August 13, 2008.

Docket Numbers: RP08-484-000.

Applicants: Colorado Interstate Gas Company.

Description: Colorado Interstate Gas Co submits Sixth Revised Sheet 320 to its FERC Gas Tariff, First Revised Volume 1.

Filed Date: 08/01/2008.

Accession Number: 20080804-0224.

Comment Date: 5 p.m. Eastern Time on Wednesday, August 13, 2008.

Docket Numbers: RP08-485-000.

Applicants: Cimarron River Pipeline, LLC.

Description: Cimarron River Pipeline, LLC submits First Revised Sheet 500 to FERC Gas Tariff, Original Volume 1.

Filed Date: 08/01/2008.

Accession Number: 20080804-0223.

Comment Date: 5 p.m. Eastern Time on Wednesday, August 13, 2008.

Docket Numbers: RP08-486-000.

Applicants: Horizon Pipeline Company, L.L.C.

Description: Horizon Pipeline Company, LLC submits Fifth Revised Sheet 5 to FERC Gas Tariff, Original Volume 1.

Filed Date: 08/01/2008.

Accession Number: 20080804-0222.

Comment Date: 5 p.m. Eastern Time on Wednesday, August 13, 2008.

Docket Numbers: RP08-487-000.

Applicants: East Tennessee Natural Gas, LLC.

Description: East Tennessee Natural Gas, LLC submits Second Revised Sheet 313 et al. to FERC Gas Tariff, Third Revised Volume 1.

Filed Date: 08/01/2008.

Accession Number: 20080804-0221.

Comment Date: 5 p.m. Eastern Time on Wednesday, August 13, 2008.

Docket Numbers: RP08-488-000.

Applicants: Maritimes & Northeast Pipeline, L.L.C.

Description: Maritimes & Northeast Pipeline, LLC submits Second Revised Sheet 300 to FERC Gas Tariff, First Revised Volume 1, and effective 9/4/08 under RP08-488.

Filed Date: 08/04/2008.

Accession Number: 20080805-0101.

Comment Date: 5 p.m. Eastern Time on Monday, August 18, 2008.

Docket Numbers: CP06-5-010.

Applicants: Empire Pipeline Inc.

Description: Empire Pipeline Inc., submits Original Sheet No. 0 et al. to FERC Gas Tariff, Original Volume No. 1, to be effective 11/1/08.

Filed Date: 08/01/2008.

Accession Number: 20080805-0096.

Comment Date: 5 p.m. Eastern Time on Friday, August 15, 2008.

Docket Numbers: CP07-417-001.

Applicants: Texas Gas Transmission, LLC.

Description: Texas Gas Transmission, LLC submits Original Sheet 35A et al. to FERC Gas Tariff, Second Revised Volume No. 1.

Filed Date: 08/01/2008.

Accession Number: 20080805-0215.

Comment Date: 5 p.m. Eastern Time on Friday, August 15, 2008.

Docket Numbers: CP08-17-001.

Applicants: Cimarron River Pipeline, LLC.

Description: Cimarron River Pipeline, LLC submits its proposed FERC Gas Tariff, Original Volume No. 1, to be effective 9/1/08.

Filed Date: 08/01/2008.

Accession Number: 20080805-0120.

Comment Date: 5 p.m. Eastern Time on Friday, August 15, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E8-18454 Filed 8-8-08; 8:45 am]

BILLING CODE 6717-01-P